SMALL BUSINESS ADMINISTRATION

[Disaster Declaration # 10254 and # 10255]

Kentucky Disaster # KY-00003

AGENCY: U.S. Small Business Administration.

ACTION: Notice.

SUMMARY: This is a notice of an administrative declaration of a disaster for the State of Kentucky dated 11/15/2005.

Incident: Severe Storms and Tornadoes.

Incident Period: 11/06/2005.

Effective Date: 11/15/2005.

Physical Loan Application Deadline Date: 01/16/2006.

EIDL Loan Application Deadline Date: 08/14/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Hart.

Contiguous Counties:

Kentucky: Barrenn, Edmonson, Grayson, Green, Hardin, Larue, Metcalfe.

The Interest Rates are:

Homeowners With Credit Available Elsewhere: 5.375.

Homeowners Without Credit Available Elsewhere: 2.687.

Businesses With Credit Available Elsewhere: 6.557.

Business and Small Agricultural Cooperatives Without Credit Available Elsewhere: 4.000.

Other (Including Non-Profit Organizations) With Credit Available Elsewhere: 4.750.

Businesses and Non-Profit Organizations Without Credit Available Elsewhere: 4.000.

The number assigned to this disaster for physical damage is 10254 C and for economic injury is 10255 O.

The State which received an EIDL Declaration # is Kentucky.

(Catalog of Federal Domestic Assistance Numbers 59002 and 59008)

Hector V. Barreto,
Administrator.

[FR Doc. E5-6543 Filed 11-25-05; 8:45 am]

BILLING CODE 8025-01-P